DEPARTMENT OF TRANSPORTATION

Federal Railroad Administration

[Docket No. FRA-2014-0011-N-02]

Proposed Agency Information Collection Activities; Comment Request

AGENCY: Federal Railroad Administration (FRA), Department of Transportation (DOT).

ACTION: Notice.

SUMMARY: FRA is seeking public comments on its proposal to renew its Paperwork Reduction Act (PRA) clearance to participate in the Office of Management and Budget (OMB) program, “Generic Clearance for the Collection of Qualitative Feedback on Agency Service Delivery” (OMB program). FRA will submit the information collection requirements described below to OMB for review, as required by the PRA. The OMB program was created to facilitate Federal agencies' efforts to streamline the process to seek public feedback on service delivery. Current FRA clearance under the OMB program expires May 31, 2017.

DATES: Comments must be received no later than February 6, 2017.

ADDRESSES: Submit written comments on any or all of the following proposed activities by mail to Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0593.” Alternatively, comments may be transmitted via facsimile to (202) 493-6497, or via email to Ms. Toone at Kim.Toone@dot.gov. Please refer to the assigned OMB control number in any correspondence submitted. FRA will summarize comments received in response to this notice in a subsequent notice and include them in its information collection submission to OMB for approval.

FOR FURTHER INFORMATION CONTACT: Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: Executive Order 12862 (1993) (Setting Customer Service Standards) directed all Federal executive departments and agencies and requested independent Federal agencies to provide service to “customers” that matches or exceeds the best service available in the private sector. See also Executive Order 13571 (2011) (Streamlining Service Delivery and Improving Customer Service). For purposes of these orders, “customer” means an individual who or entity that is directly served by a Federal department or agency. FRA seeks renewed OMB approval of a generic clearance to collect qualitative feedback on our service delivery (i.e., the products and services that FRA creates to help consumers and businesses understand their rights and responsibilities, including Web sites, blogs, videos, print publications, and other content).

Below is a brief summary of the information collection activity FRA will submit to OMB for clearance as required under the PRA:

Title: Generic Clearance for the Collection of Qualitative Feedback on Agency Service Delivery OMB Control Number: 2130-0593.

Status: Regular Review.

Type of Request: Extension without change of a previously approved collection.

Abstract: This collection of information is necessary to enable the FRA to garner customer and stakeholder feedback in an efficient, timely manner, consistent with our commitment to improving service delivery. The information collected from our customers and stakeholders will help ensure users have an effective, efficient, and satisfying experience with FRA's programs. This feedback will provide insights into customer or stakeholder perceptions, experiences and expectations, provide an early warning of issues with service, and focus attention on areas where communication, training or changes in operations might improve delivery of products or services. These collections will allow ongoing, collaborative, and actionable communications between FRA and its customers and stakeholders. It also allows feedback to contribute directly to the improvement of program management.

Improving FRA's programs requires ongoing assessment of service delivery, meaning a systematic review of the operation of a program compared to a set of explicit or implicit standards as a means of contributing to the continuous improvement of the program. FRA will collect, analyze, and interpret information gathered through this generic clearance to identify strengths and weaknesses of current services and make improvements in service delivery based on feedback. The solicitation of feedback will target areas such as: Timeliness, appropriateness, accuracy of information, courtesy, efficiency of service delivery, and resolution of issues with service delivery. FRA will assess responses to plan and inform efforts to improve or maintain the quality of service offered to the public. If this information is not collected, vital feedback from customers and stakeholders on the FRA's services will be unavailable.

FRA will only submit a collection for approval under this generic clearance if it meets the following conditions:

• FRA will only use the information gathered internally for general service improvement and program management purposes and does not intend to release it outside FRA;

• FRA will not use information gathered to substantially inform influential policy decisions;

• Information gathered will yield qualitative information; FRA will not design the collections or expect them to yield statistically reliable results or use them as though the results are generalizable to the population of study;

• Participation in the collections is voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the OMB program or may have experience with the OMB program in the near future; and

• With the exception of information needed to provide renumeration for participants of focus groups and cognitive laboratory studies, FRA will collect personally identifiable information (PII) only to the extent necessary and will not retain it.

Affected Public: Individuals and Households, Business and Organizations, State, Local or Tribal Governments.

Frequency of Submission: Once per request.

Total Annual Number of Respondents: 2,100.

Total Estimated Responses: 2,100.

Average Minutes per Response: 10 minutes.

Total Annual Burden Hours: 354 hours.

Authority: 44 U.S.C. 3501-3520.

Issued in Washington, DC, on November 30, 2016.
Patrick Warren,
Acting Executive Director.

[FR Doc. 2016-29237 Filed 12-5-16; 8:45 am]

BILLING CODE 4910-06-P